DEPARTMENT OF COMMERCE

National Oceanic and Atmospheric Administration

RIN 0648-XF803

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 172nd meeting by teleconference and webinar to discuss and make recommendations on fishery management issues in the Western Pacific Region.

DATES: The Council will meet on November 15, 2017, between 2 p.m. and 5 p.m. (Hawaii Standard Time (HST)); 1 and 4 p.m. (American Samoa Standard Time (ASST)); and November 16, 2017, between 10 a.m. and 1 p.m. (Marianas Standard Time (MST)). All times listed are local island times. For specific time and agenda, see SUPPLEMENTARY INFORMATION.

ADDRESSES: The meeting will be held by teleconference and webinar. The teleconference numbers are: U.S. toll-free: 1 (888) 482-3560, International Access: +1 (647) 723-3959, and Access Code: 5228220. The webinar can be accessed at: https://wprfmc.webex.com/join/info.wpcouncilnoaa.gov.

The following venues will also be host sites for the teleconference: Council Conference Room, 1164 Bishop Street, Suite 1400, Honolulu, Hawaii; Land Grant Conference Room, American Samoa Community College, Agriculture, Community and Natural Resources, Mapusaga Road, Malaeimi Village, American Samoa; Guam Hilton Resort and SPA, 202 Hilton Road, Tumon Bay, Guam; Department of Land and Natural Resources Conference Room, Santa Remedio Drive, Lower Base, Saipan, MP.

FOR FURTHER INFORMATION CONTACT: Kitty M. Simonds, Executive Director; telephone: (808) 522-8220.

SUPPLEMENTARY INFORMATION: Public comment opportunity will be provided in the agenda. The order in which agenda items are addressed may change. The meeting will run as late as necessary to complete scheduled business. Written comments must be received by November 10, 2017. Background documents will be available from, and written comments should be sent to, Kitty M. Simonds, Executive Director; Western Pacific Fishery Management Council, 1164 Bishop Street, Suite 1400, Honolulu, HI 96813; phone: (808) 522-8220 or fax: (808) 522-8226.

Schedule and Agenda for the 172nd Council Meeting

2 p.m.-5 p.m., Wednesday, November 15 (HST); 1 p.m.-4 p.m., Wednesday, November 15, 2016 (ASST); 10 a.m.-1 p.m., Thursday, November 16, 2016 (MST)

1. Welcome and Introductions

2. Review and Approval of the 172nd Agenda

3. Modifying the Swordfish Trip Limit in the American Samoa Longline Fishery (Final Action)

4. Public Hearing

5. Other Business

6. Council Discussion and Recommendations

Non-Emergency issues not contained in this agenda may come before the Council for discussion and formal Council action during its 172nd meeting. However, Council action on regulatory issues will be restricted to those issues specifically listed in this document and any regulatory issue arising after publication of this document that requires emergency action under section 305(c) of the Magnuson-Stevens Act, provided the public has been notified of the Council's intent to take action to address the emergency.

Agenda items noted as “Final Action Items” refer to actions that result in Council transmittal of a proposed fishery management plan, proposed plan amendment, or proposed regulations to the U.S. Secretary of Commerce, under Sections 304 or 305 of the Magnuson-Stevens Fishery Conservation and Management Act.

Special Accommodations

The host sites are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 25, 2017.
Tracey L. Thompson,
Acting Deputy Director, Office of Sustainable Fisheries, National Marine Fisheries Service.

[FR Doc. 2017-23600 Filed 10-30-17; 8:45 am]

BILLING CODE 3510-22-P